DEPARTMENT OF AGRICULTURE

Food and Nutrition Service

Agency Information Collection Activities: State Administrative Expense Funds

AGENCY: Food and Nutrition Service (FNS), USDA.

ACTION: Notice.

SUMMARY: In accordance with the Paperwork Reduction Act of 1995, this notice invites the general public and other public agencies to comment on this proposed information collection. This collection is a revision of a currently approved collection for State administrative expense funds expended in the operation of the Child Nutrition Programs administered under the Child Nutrition Act of 1966.

DATES: Written comments must be received on or before November 10, 2025.

ADDRESSES: Comments may be sent to Penny Burke, Chief, Operational Support Branch, Food and Nutrition Service, U.S. Department of Agriculture, 1320 Braddock Place, Alexandria, VA 22314. Comments may also be submitted via email to Penny.Burke@usda.gov. Comments will also be accepted through the Federal eRulemaking Portal. Go to http://www.regulations.gov, and follow the online instructions for submitting comments electronically. All responses to this notice will be summarized and included in the request for Office of Management and Budget (OMB) approval and will become a matter of public record.

FOR FURTHER INFORMATION CONTACT: Requests for additional information or copies of this information collection should be directed to Penny Burke at (720) 822-8597.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: 7 CFR part 235—State Administrative Expense Funds.

Form Number: FNS-525.

OMB Number: 0584-0067.

Expiration Date: January 31, 2026.

Type of Request: Revision of a currently approved collection.

Abstract: Section 7 of the Child Nutrition Act of 1966 (Pub. L. 89-642), 42 U.S.C. 1776, authorizes the Department to provide Federal funds to State agencies (SAs) for administering the Child Nutrition Programs (7 CFR parts 210, 215, 220, 226 and 250). State Administrative Expense (SAE) Funds, 7 CFR part 235, sets forth procedures and recordkeeping requirements for use by SAs in reporting and maintaining records of their need and use of SAE funds. A summary of the reporting and recordkeeping burden associated with this revision is presented in the table below.

The FNS-525 State Administrative Expense Funds Reallocation Report is used by the State agencies to report information related to the SAE funds. 7 CFR 235.5(d) states that “Annually, between March 1 and May 1 on a date specified by FNS, of each year, each State agency shall submit to FNS a State Administrative Expense Funds Reallocation Report (FNS-525) on the use of SAE funds.” This report will be used to reallocate SAE funds.

The FNS-777 Financial Status Report was formerly associated with this collection. However, due to revisions made to FNS-525 for the 2022 renewal, completion of FNS-525 now provides all of the required information and it is no longer necessary to obtain information from the FNS-777. Therefore, the recordkeeping requirement and burden associated with FNS-777 is being removed from the collection. FNS-777 and its associated burden is approved under OMB Control Number 0584-0594 Food Programs Reporting System (FPRS) (expiration date September 30, 2026) and is therefore not included in this collection. Removing this recordkeeping requirement will reduce 216 responses and 54 burden hours from the recordkeeping burden, due to a program change, resulting in a new overall burden of 3,075 responses and 6,252 hours for this collection.

Affected Public: State, Local and Tribal Government. State Agencies are the respondents.

Estimated Number of Respondents: 83.

Estimated Number of Responses per Respondent: 37.048 across the entire collection. State agencies provide information on an annual basis.

Estimated Total Annual Responses: 3,075 (169 reporting and 2,906 recordkeeping).

Estimated Hours per Response: 2.033 across the entire collection. The estimated time of response varies from 15 minutes (.25 hours) to 8 hours.

Estimated Total Hours Annual Reporting Burden: 357.

Estimated Total Hours Annual Recordkeeping Burden: 5,895.

Estimated Total Annual Burden: 6,252.

Current OMB Inventory: 6,306.

Difference (requested with this renewal): −54.

Refer to the following table for estimated annual burden for each type of respondent:

Affected public | Estimated number of respondents | Number of responses per respondent | Estimated total annual responses | Estimated hours per response | Estimated total annual burden
Reporting
State Agencies | 83 | 2.036 | 169 | 2.112 | 357
Total Estimated Reporting Burden | 83 | 2.036 | 169 | 2.112 | 357
Recordkeeping
State Agencies | 83 | 35.012 | 2,906 | 2.029 | 5,895
Total Estimated Recordkeeping Burden | 83 | 35.012 | 2,906 | 2.029 | 5,895
Total of Reporting and Recordkeeping
Reporting | 83 | 2.036 | 169 | 2.112 | 357
Recordkeeping | 83 | 35.012 | 2,906 | 2.029 | 5,895
Total | 83 | 37.048 | 3,075 | 2.033 | 6,252

James C. Miller,
Administrator, Food and Nutrition Service.

[FR Doc. 2025-17531 Filed 9-10-25; 8:45 am]

BILLING CODE 3410-30-P